DEPARTMENT OF ENERGY

Western Area Power Administration

Wind Hydropower Integration Feasibility Study

AGENCY: Western Area Power Administration, DOE.

ACTION: Notice of a Draft Study Work Plan.

SUMMARY: The Western Area Power Administration (Western) is publishing this notice to inform interested parties of the draft Study Work Plan for performing the Wind Hydropower Integration Feasibility Study (WHFS). The WHFS involves a study on the integration of wind energy generated by Indian tribes and hydropower generated by the Army Corps of Engineers on the Missouri River to supply power to Western. This study applies only to Western's Upper Great Plains Region (UGPR).

DATES: The comment period begins today and will end October 19, 2007. Western will hold a public meeting on the draft Study Work Plan associated with the WHFS on September 27, 2007, and will commence at 9 a.m. CDT.

ADDRESSES: Send written comments to Mr. Robert J. Harris, Regional Manager, Upper Great Plains Region, Western Area Power Administration, 2900 4th Avenue North, Billings, MT 59101-1266, or e-mail UGPWindHydroFS@wapa.gov. The public meeting location is the Comfort Inn, 1030 East Interstate Avenue, Bismarck, North Dakota.

FOR FURTHER INFORMATION CONTACT: Mr. Michael A. Radecki, Energy Services Specialist, Upper Great Plains Region, Western Area Power Administration, 2900 4th Avenue North, Billings, MT 59101-1266, telephone (406) 247-7442, e-mail radecki@wapa.gov.

SUPPLEMENTARY INFORMATION: The Energy Policy Act of 2005, section 2606 (EPAct 2005, Sec 2606), Public Law 109-058, requires that:

The Secretary of Energy, in coordination with the Secretary of the Army and the Secretary, shall conduct a study of the cost and feasibility of developing a demonstration project that uses wind energy generated by Indian tribes and hydropower generated by the Army Corps of Engineers on the Missouri River to supply firming power to the Western Area Power Administration.

EPAct 2005, Sec. 2606 also directed the formation of a study team to include an independent tribal engineer and a Western customer representative. In March 2007, through written correspondence, Western requested nominations for an independent tribal engineer from each of the 25 Indian tribes in the UGPR. Three Indian tribes and one tribal organization responded to this request and are serving as WHFS study team members. Western solicited non-tribal customer representation through the Mid-West Electric Consumers Association, which represents the majority of Western's customers in the UGPR. Three UGPR customers serve as customer representative project team members.

Objectives

The objectives of the WHFS as required by EPAct 2005, Sec. 2606, include: (1) Determine the economic and engineering feasibility of blending wind energy and hydropower generated from the Missouri River dams operated by the Army Corps of Engineers, including an assessment of the costs and benefits of blending wind energy and hydropower compared to current sources used for firming power to Western; (2) review historical and projected requirements for patterns of availability and use and reasons for historical patterns concerning the availability of firming power; (3) assess the wind energy resource potential on tribal land and projected cost savings through a blend of wind and hydropower over a 30-year period; (4) determine the seasonal capacity needs and associated transmission upgrades for integration of tribal wind generation and identify costs associated with these activities; and (5) incorporate to the extent appropriate the results of the Dakotas Wind Transmission Study.

WHFS Work Scope

Western seeks public comment on the proposed scope of work.

The draft WHFS work plan has been structured to address the requirements of EPAct 2005, Sec. 2606, as well as incorporate and make best use of previous wind integration and transmission studies. The WHFS work plan consists of six work elements, which have been summarized below. The complete work plan can be found at http://www.wapa.gov/ugp/Power_Marketing/WindHydro/Default.htm.

Work Element 1: WHFS Work Plan

Develop a final work plan that will communicate the overall approach to the WHFS Project Team and the general public. A proposed WHFS work plan was initially developed and reviewed by the study team and is now available for public review and comment.

Work Element 2: Analysis of Historical Western Purchase Requirements

This work element will assess a broad range of historical requirements and costs for additional capacity and energy required to meet Western's firm power obligations. Specific objectives of this work element include the identification of historical purchase power patterns as compared to availability of hydropower system load characteristics and other system requirements. The results of this work element will serve as a foundation for determining an appropriate quantity of tribal wind energy integration and the best possible locations for tribal wind energy projects.

Work Element 3: Wind Project Identification

A standard questionnaire will be developed to obtain information on proposed projects to demonstrate potential costs and benefits associated with the use of wind power to displace energy that would otherwise be purchased. It is expected that potential projects will be in various stages of development and may, therefore, result in less than complete information.

Work Element 4: Transmission System Evaluation

Potential tribal wind energy projects identified in Work Element 3 will be assessed for potential impacts to the UGPR transmission system, including the scope and costs of any transmission system improvements or modifications required to integrate potential tribal wind energy projects.

Work Element 5: Assessment of UGPR Impacts

This work element will consist of two major components: (1) Long-term economics and (2) operational feasibility. Both components will be assessed through the use of PROMOD IV software. The long-term economics are predominantly driven by the market price of purchased power as compared to the cost of displacement energy generated by tribal energy projects. The operational feasibility study will assess various degrees of wind energy integration and the resulting impacts on UGPR's overall system operations and transmission constraints.

Work Element 6: WHFS Report

The resulting WHFS report will address the efforts and conclusions of each work element as well as contain: (1) A comparison of the potential energy cost or benefits to the customers of Western through the use of combined wind and hydropower; (2) a description of the economics and engineering/operational characteristics of the combined wind and hydropower system on Western's UGPR, including potential reductions of reservoir fluctuation, enhanced efficient and reliable energy production, and identified Missouri River management flexibility; (3) recommendations and general criteria for a project to be carried out by Western in partnership with an Indian tribal government or tribal energy resource development organization and Western customers to demonstrate the feasibility and potential of using wind energy produced on Indian land to supply firming energy to Western; (4) a discussion of identified economic and environmental cost of, or benefits to be realized through, a Federal-tribal-customer partnership; and (5) an identification of the manner in which a Federal-tribal-customer partnership could contribute to the energy security of the United States.

Study Guidelines

All models and system data will be coordinated with and consistent with existing Mid-Continent Area Power Pool and Midwest Independent System Operator models and databases. Wind turbine models will reflect specifications identified per each tribal energy project.

Availability of Information

The WHFS work plan will be available for inspection and copying at the UGPR office located at 2900 4th Ave. North, Billings, Montana. This document is also available for viewing at http://www.wapa.gov/ugp/Power_Marketing/WindHydro/Default.htm.

Work Plan Procedure Requirements

Determination Under Executive Order 12866

Western has an exemption from centralized regulatory review under Executive Order 12866; accordingly, no clearance of this notice by the Office of Management and Budget is required.

Environmental Compliance

In compliance with the National Environmental Policy Act (NEPA) of 1969 (42 U.S.C. 4321, et seq.); Council on Environmental Quality Regulations for implementing NEPA (40 CFR parts 1500-1508); and DOE NEPA Implementing Procedures and Guidelines (10 CFR part 1021), Western is in the process of determining whether an environmental assessment or an environmental impact statement should be prepared or if this action can be categorically excluded from those requirements.

Dated: September 12, 2007.
Timothy J. Meeks,
Administrator.

[FR Doc. E7-18480 Filed 9-18-07; 8:45 am]

BILLING CODE 6450-01-P